FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET REQ status | Party name
26-JUL-10 | 20100914 | G | Natural Gas Partners VIII, LP.
|  | G | The Goldman Sachs Group, Inc.
|  | G | Cedar Bay Operating Services, LLC.
|  | G | Gray Hawk Power Corporation.
|  | G | Cedar Bay Management Services Company.
|  | G | Cedar Power Corporation.
|  | G | Cogentrix Operating Services Holdings LLC.
|  | G | Raptor Holdings Company.
|  | G | Cogentrix Eastern America LLC.
|  | G | Cogentrix Energy LLC.
| 20100915 | G | Patterson-UTI Energy, Inc.
|  | G | Key Energy Services, Inc.
|  | G | Key Energy Pressure Pumping Services, LLC.
|  | G | Key Electric Wireline Services, LLC.
| 20100924 | G | Thomas H. Lee Equity Fund VI, LP.
|  | G | Parthenon Investors II, LP.
|  | G | Intermedix Corporation.
27-JUL-10 | 20100456 | G | Schlumberger N.V. (Schlumberger Limited).
|  | G | Smith International, Inc.
|  | G | Smith International, Inc.
| 20100910 | G | Galaxy PEF Holding LLC.
|  | G | Otera US Holding Inc.
|  | G | CW Financial Services LLC.
| 20100911 | G | Galaxy CF UST Investment Holdings LLC.
|  | G | Otera US Holding Inc.
|  | G | CW Financial Services LLC.
30-JUL-10 | 20100884 | G | Cott Corporation.
|  | G | Stanley A. Star.
|  | G | Cliffstar Corporation.
|  | G | Star World Trading Company.
|  | G | Harvest Glassic LLC.
|  | G | Star Realty Property.
|  | G | ShanStar Biotech, Inc.
| 20100904 | G | PPL Corporation.
|  | G | Ameren Corporation.
|  | G | Electric Energy Inc.
02-AUG-10 | 20100919 | G | Welsh, Carson, Anderson & Stowe XI, LP.
|  | G | K2M, Inc.
|  | G | K2M, Inc.
| 20100921 | G | Patrick L. Eudy.
|  | G | Cameron Communications, LLC.
|  | G | Cameron Communications, LLC.
| 20100922 | G | Wings Financial Credit Union.
|  | G | City-County Federal Credit Union.
|  | G | City-County Federal Credit Union.
| 20100927 | G | The Doctors Company.
|  | G | American Physicians Capital, Inc.
|  | G | American Physicians Capital, Inc.
| 20100929 | G | Quad-C Partners VII, LP.
|  | G | Vestar Capital Partners IV, LP.
|  | G | Joerns Healthcare LLC.
| 20100930 | G | BP p.l.c
|  | G | Verenium Corporation.
|  | G | Verenium Biofuels Corporation.
| 20100933 | G | SAIC, Inc.
|  | G | Reveal Imaging Technologies, Inc.
|  | G | Reveal Imaging Technologies, Inc.
| 20100940 | G | Wellspring Capital Partners IV, LP.
|  | G | OMNI Energy Services Corp.
|  | G | OMNI Energy Services Corp.
| 20100942 | G | Gores Capital Partners II, LP.
|  | G | NEC Holdings Corp.
|  | G | National Envelope Corporation.
03-AUG-10 | 20100900 | G | Celgene Corporation.
|  | G | Dr. Patrick Soon-Shiong, M.D.
|  | G | Abraxis BioScience, Inc.
| 20100901 | G | Dr. Patrick Soon-Shiong, M.D.
|  | G | Celgene Corporation.
|  | G | Celgene Corporation.
| 20100931 | G | Apache Corporation.
|  | G | BP p.l.c.
|  | G | BP America Production Company.
04-AUG-10 | 20100907 | G | Abrams Capital Partners II, LP.
|  | G | Arbitron, Inc.
|  | G | Arbitron, Inc.
| 20100776 | G | Viterra Inc.
|  | G | 21C Holdings, LP.
|  | G | 21C Holdings, LP.
| 20100939 | G | Magellan Midstream Partners, LP.
|  | G | BP p.l.c.
|  | G | BP Pipeplines.
| 20100952 | G | United Health Group Incorporated.
|  | G | The Goldman Sachs Group, Inc.
|  | G | Picis Solutions, Inc.
06-AUG-10 | 20100632 | G | Oracle Corporation.
|  | G | Phase Forward Incorporated.
|  | G | Phase Forward Incorporated.
| 20100955 | G | NTELOS Holdings Corp.
|  | G | One Communications Corp.
|  | G | Mountaineer Telecommunications, LLC.
| 20100958 | G | Zep Inc.
|  | G | Wind Point Partners V, LP.
|  | G | Waterbury Companies, Inc.
|  | G | Air Guard Control Corporation.
| 20100961 | G | Vestar Capital Partners V, LP.
|  | G | Health Grades, Inc.
|  | G | Health Grades, Inc.
| 20100965 | G | AT&T Inc.
|  | G | Sprint Nextel Corporation.
|  | G | WirelessCo, LP.
10-AUG-10 | 20100917 | G | MPH Acquisition Corporation.
|  | G | Carlyle Partners IV, LP.
|  | G | MultiPlan Holdings, Inc.
| 20100960 | G | Nippon Telegraph and Telephone Corporation.
|  | G | Dimension Data Holdings plc.
|  | G | Dimension Data Holdings plc.
11-AUG-10 | 20100897 | G | Nestle S.A.
|  | G | LenSx Lasers, Inc.
|  | G | LenSx Lasers, Inc.
13-AUG-10 | 20100969 | G | KRG Capital Fund IV, LP.
|  | G | Genstar Capital Partners IV, LP.
|  | G | Fort Dearborn Holdings, LLC.
| 20100970 | G | Nippon Telegraph and Telephone Corporation.
|  | G | NextWave Wireless Inc.
|  | G | PacketVideo Corporation.
| 20100972 | G | Clayton, Dubilier & Rice Fund VIII, LP.
|  | G | Harrington Group, Inc.
|  | G | Harrington Group, Inc.
| 20100975 | G | First Reserve Fund XII, LP.
|  | G | Quicksilver Resources Inc.
|  | G | Quicksilver Gas Services Holdings LLC.
| 20100976 | G | Eaton Corporation.
|  | G | Wright Line Purchaser LLC.
|  | G | Wright Line Holding, Inc.
| 20100977 | G | AECOM Technology Corporation.
|  | G | The Veritas Capital Fund II, LP.
|  | G | MT Holding Corp.
| 20100985 | G | Green Equity Investors V, LP.
|  | G | Ares Corporate Opportunities Fund II, LP.
|  | G | AA Dental Management Holdings LLC.
| 20100987 | G | General Motors Company.
|  | G | AmeriCredit Corp.
|  | G | AmeriCredit Corp.

FOR FURTHER INFORMATION CONTACT: Sandra M. Peay, Contact Representative or Renee Chapman, Contact Representative. Federal Trade Commission, Premerger Notification Office, Bureau of Competition, Room H-303, Washington, DC 20580. (202) 326-3100.

By direction of the Commission.
Donald S. Clark,
Secretary.

[FR Doc. 2010-21410 Filed 8-31-10; 8:45 am]

BILLING CODE 6750-01-M